DEPARTMENT OF AGRICULTURE

Forest Service

Notice of Resource Advisory Committee Meeting

AGENCY: North Central Idaho Resource Advisory Committee, Kamiah, Idaho, USDA, Forest Service.

ACTION: Notice of meeting.

SUMMARY: Pursuant to the authorities in the Federal Advisory Committee Act (Public Law 92-463) and under the Secure Rural Schools and Community Self-Determination Act of 2000 (Pub. L. 106-393) the Nez Perce and Clearwater National Forests' North Central Idaho Resource Advisory Committee will meet Thursday, October 2, 2003 in Kooskia, Idaho for a business meeting. The meeting is open to the public.

SUPPLEMENTARY INFORMATION: The business meeting on October 2, begins at 10 a.m. (pst), at the Clearwater National Forest, Supervisor's Office, 12730 Highway 12, Orofino, Idaho. Agenda topics will include discussion of potential projects. A public forum will begin at 2:30 p.m. (pst).

FOR FURTHER INFORMATION CONTACT. Ihor Mereszczak, Staff Officer and Designated Federal Officer, at (208) 935-2513.

Dated: September 4, 2003.
Ihor Mereszczak,
Acting Forest Supervisor.

[FR Doc. 03-23195 Filed 9-10-03; 8:45 am]

BILLING CODE 3410-11-M